DEPARTMENT OF AGRICULTURE

U.S. Codex Office

Codex Alimentarius Commission: Meeting of the Codex Committee on Methods of Analysis and Sampling

AGENCY: U.S. Codex Office, USDA.

ACTION: Notice of public meeting and request for comments.

SUMMARY: The U.S. Codex Office is sponsoring a public meeting on February 19, 2026. The objective of the public meeting is to provide information and receive public comments on agenda items and draft U.S. position to be discussed at the 45th Session of the Codex Committee on Methods of Analysis and Sampling (CCMAS45) of the Codex Alimentarius Commission (CAC). CCMAS45 will be held in Budapest, Hungary, from March 9-13, 2026. The U.S. Manager for Codex Alimentarius and the Under Secretary for Trade and Foreign Agricultural Affairs recognize the importance of providing interested parties the opportunity to obtain background information on the 45th Session of the CCMAS and to address items on the agenda.

DATES: The public meeting is scheduled for February 19, 2026, from 1:00-3:00 p.m. ET.

ADDRESSES: The public meeting will take place via video teleconference only. Documents related to the 45th Session of the CCMAS will be accessible via the internet at the following address: https://www.fao.org/fao-who-codexalimentarius/meetings/detail/it/?meeting=CCMAS&session=45.

Dr. Patrick Gray, U.S. Delegate to the 45th Session of the CCMAS, invites interested U.S. parties to submit their comments electronically to the following email address: Patrick.Gray@fda.hhs.gov. Comments should state that they relate to the activities of the 45th Session of the CCMAS.

Registration: Attendees may register to attend the public meeting at the following link: https://www.zoomgov.com/meeting/register/ExjuxbmTTb2I0LaiKg0duw. After registering, you will receive a confirmation email containing information about joining the meeting.

For further information about the 45th Session of the CCMAS, contact the U.S. Delegate, Dr. Patrick Gray, by email at: Patrick.Gray@fda.hhs.gov. For additional information regarding the public meeting, contact the U.S. Codex Office by email at: uscodex@usda.gov.

SUPPLEMENTARY INFORMATION:

Background

The Codex Alimentarius Commission was established in 1963. Through adoption of food standards, codes of practice, and other guidelines developed by its committees, and by promoting their adoption and implementation by governments, Codex seeks to protect the health of consumers and ensure fair practices in the food trade.

The Terms of Reference of the Codex Committee on Methods of Analysis and Sampling (CCMAS) are:

(a) to define the criteria appropriate to Codex Methods of Analysis and Sampling;

(b) to serve as a coordinating body for Codex with other international groups working in methods of analysis and sampling and quality assurance systems for laboratories;

(c) to specify, on the basis of final recommendations submitted to it by the other bodies referred to in (b) above, Reference Methods of Analysis and Sampling appropriate to Codex Standards which are generally applicable to a number of foods;

(d) to consider, amend, if necessary, and endorse, as appropriate, methods of analysis and sampling proposed by Codex (Commodity) Committees, except that methods of analysis and sampling for residues of pesticides or veterinary drugs in food, the assessment of micro biological quality and safety in food, and the assessment of specifications for food additives, do not fall within the terms of reference of this Committee;

(e) to elaborate sampling plans and procedures, as may be required;

(f) to consider specific sampling and analysis problems submitted to it by the Commission or any of its Committees; and,

(g) to define procedures, protocols, guidelines or related texts for the assessment of food laboratory proficiency, as well as quality assurance systems for laboratories.

Hungary hosts the CCMAS. The United States attends the CCMAS as a member country of Codex.

Issues To Be Discussed at the Public Meeting

Although the meeting agenda was not available at the time of publication of this notice, the following items are expected to be on the agenda for the 45th Session of the CCMAS and will be discussed during the public meeting:

• Matters referred to the Committee by the Codex Alimentarius Commission and other subsidiary bodies

• Endorsement of methods of analysis provisions and sampling plans in Codex standards

• Methods of analysis and sampling submitted by Codex subsidiary bodies

• Matters pending from CCMAS44

• Review of methods of analysis in commodity standards (fish and fishery products, fats and oils, cereals, pulses and legumes and derived products)

• Retyping of ISO 1871 for determining protein in quinoa

• Review of methods of analysis in CXS 234

• Fruit juices workable package

• Cocoa products and chocolate workable package

• Sugars and honey workable package

• Methods of analysis for precautionary allergen labelling

• Sampling plans: Discussion papers

• Review of sampling plans in CXS 234-1999

• Sampling plans for bulk materials/heterogenous lots including mycotoxins

• Harmonization of names and format for principles identified in CXS 234

• Report of an Inter-Agency Meeting on Methods of Analysis

• Other business and future work

Public Meeting

At the February 19, 2026, public meeting, agenda items and draft U.S. positions will be described and discussed, and attendees will have the opportunity to pose questions and offer comments. Written comments may be offered at the meeting or sent to Dr. Patrick Gray, U.S. Delegate to the 45th Session of the CCMAS, at Patrick.Gray@fda.hhs.gov. Written comments should state that they relate to activities of the 45th Session of the CCMAS.

Additional Public Notification

Public awareness of all segments of rulemaking and policy development is important. Consequently, the U.S. Codex Office will announce this Federal Register publication on-line through the USDA Codex web page located at: https://www.usda.gov/codex.

(Authority: 19 U.S.C. 2578; 7 CFR 2.602.)

Done at Washington, DC, on February 2, 2026.
Julie A. Chao,
Deputy U.S. Manager for Codex Alimentarius.

[FR Doc. 2026-02339 Filed 2-5-26; 8:45 am]

BILLING CODE 3420-3F-P